DEPARTMENT OF EDUCATION

34 CFR Chapter II

[Docket ID ED-2018-OII-0062]

RIN 1855-AA14

Proposed Priorities, Requirements, Definitions, and Selection Criteria—Expanding Opportunity Through Quality Charter Schools Program; Grants to Charter Management Organizations for the Replication and Expansion of High-Quality Charter Schools

AGENCY: Office of Innovation and Improvement, Department of Education.

ACTION: Proposed priorities, requirements, definitions, and selection criteria.

SUMMARY: The Acting Assistant Deputy Secretary for Innovation and Improvement proposes priorities, requirements, definitions, and selection criteria for Grants to Charter Management Organizations for the Replication and Expansion of High-Quality Charter Schools (CMO grants) under the Expanding Opportunity Through Quality Charter Schools Program (CSP), Catalog of Federal Domestic Assistance (CFDA) number 84.282M. The Acting Assistant Deputy Secretary for Innovation and Improvement may use one or more of these priorities, requirements, definitions, and selection criteria for competitions in fiscal year (FY) 2019 and later years. We take this action to support the replication and expansion of high-quality charter schools by charter management organizations (CMOs) throughout the Nation, particularly those that serve Educationally Disadvantaged Students,¹ such as students who are Individuals from Low-income Families, and students who traditionally have been underserved by charter schools, such as students who are Indians and students in Rural Communities.

¹ Throughout this document, terms for which we are proposing definitions are denoted by initial capitals.

DATES: We must receive your comments on or before August 27, 2018.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: If you mail or deliver your comments, address them to Allison Holte, U.S. Department of Education, 400 Maryland Avenue SW, Room 5W106, Washington, DC 20202-5970.

Privacy Note: The Department's policy is to make all comments received from members of the public available for public viewing in their entirety on the Federal eRulemaking Portal at www.regulations.gov. Therefore, commenters should be careful to include in their comments only information that they wish to make publicly available.

FOR FURTHER INFORMATION CONTACT: Allison Holte, U.S. Department of Education, 400 Maryland Avenue SW, Room 5W106, Washington, DC 20202-5970. Telephone: (202) 205-7726. Email: charterschools@ed.gov.

If you use a telecommunications device for the deaf (TDD) or a text telephone (TTY), call the Federal Relay Service (FRS), toll free, at 1-800-877-8339.

SUPPLEMENTARY INFORMATION:

Executive Summary

Purpose of This Regulatory Action: The Acting Assistant Deputy Secretary for Innovation and Improvement proposes priorities, requirements, definitions, and selection criteria for CMO grants. The Acting Assistant Deputy Secretary for Innovation and Improvement may use one or more of these priorities, requirements, definitions, and selection criteria for future competitions, following publication of a notice of final priorities, requirements, definitions, and selection criteria in the Federal Register. We take this action in order to support the effective and efficient use of CSP funds in the replication and expansion of high-quality charter schools throughout the Nation, particularly those that serve Educationally Disadvantaged Students, such as students who are Individuals from Low-income Families, and students who traditionally have been underserved by charter schools, such as students who are Indians and students in Rural Communities.

Summary of the Major Provisions of This Regulatory Action: The Acting Assistant Deputy Secretary for Innovation and Improvement proposes this regulatory action to achieve two main goals.

First, we seek to continue to use funds under this program to support high-quality applications from highly qualified applicants. To that end, this document includes proposed priorities, requirements, definitions, and selection criteria that would encourage or require applicants to describe, for example: Past successes working with Academically Poor-performing Public Schools; experience operating or managing multiple charter schools; plans to expand their reach into new and diverse communities; logical connections between their proposed projects and intended outcomes for the students they propose to serve; and plans to evaluate the extent to which their proposed projects, if funded, yield intended outcomes.

Second, these proposed priorities, requirements, definitions, and selection criteria are designed to increase the likelihood that CMO grants support expanded high-quality educational opportunities for Educationally Disadvantaged Students, including students who are Individuals from Low-income Families, children with disabilities, and English learners, as well as students who traditionally have been underserved by charter schools, such as students who are Indians and students in Rural Communities. Specifically, we propose priorities for applicants that would: Replicate or expand high-quality charter schools with an intentional focus on recruiting students from racially and socioeconomically diverse backgrounds, and maintaining racially and socially diverse student bodies; demonstrate that a meaningful proportion of the students served by the applicant are Individuals from Low-income Families; and replicate or expand high-quality charter schools that serve high school students, students in Rural Communities, or students who are Indians. Further, we propose requirements for CMO applicants to describe how the schools they intend to replicate or expand would recruit and enroll Educationally Disadvantaged Students and support such students in mastering State academic standards.

In addition to the proposed priorities, requirements, definitions, and selection criteria, we include in an Appendix the priorities, key requirements, definitions, and selection criteria from the Elementary and Secondary Education Act of 1965, as amended by the Every Student Succeeds Act (ESEA), and Federal regulations that are relevant to the CMO program and to the proposed priorities, requirements, definitions, and selection criteria. The priorities, requirements, definitions, and selection criteria in the Appendix are included for reference.

Costs and Benefits: The Department believes that the benefits of this regulatory action outweigh any associated costs, which we believe would be minimal. While this action would impose cost-bearing requirements on participating CMOs, we expect that CMO applicants would include requests for funds to cover such costs in their proposed project budgets. We believe this regulatory action would strengthen accountability for the use of Federal funds by helping to ensure that the Department awards CSP grants to CMOs that are most capable of expanding the number of high-quality charter schools available to our Nation's students. Please refer to the Regulatory Impact Analysis in this document for a more detailed discussion of costs and benefits.

Invitation to Comment: We invite you to submit comments regarding the proposed priorities, requirements, definitions, and selection criteria. To ensure that your comments have maximum effect in developing the notice of final priorities, requirements, definitions, and selection criteria, we urge you to identify clearly the proposed priority, requirement, definition, or selection criterion that each comment addresses.

We invite you to assist us in complying with the specific requirements of Executive Orders 12866, 13563, and 13771 and their overall requirement of reducing regulatory burden that might result from these proposed priorities, requirements, definitions, and selection criteria. Please let us know of any further ways we could reduce potential costs or increase potential benefits while preserving the effective and efficient administration of this program.

During and after the comment period, you may inspect all public comments about the proposed priorities, requirements, definitions, and selection criteria in 400 Maryland Avenue SW, Room 4W228, Washington, DC, between the hours of 8:30 a.m. and 4:00 p.m., Washington, DC time, Monday through Friday of each week except Federal holidays.

Assistance to Individuals with Disabilities in Reviewing the Rulemaking Record: On request, we will provide an appropriate accommodation or auxiliary aid to an individual with a disability who needs assistance to review the comments or other documents in the public rulemaking record for the proposed priorities, requirements, definitions, and selection criteria. If you want to schedule an appointment for this type of accommodation or auxiliary aid, please contact the person listed under FOR FURTHER INFORMATION CONTACT.

Purpose of Program: The major purposes of the CSP are to: Expand opportunities for all students, particularly students facing educational disadvantages and students who traditionally have been underserved by charter schools, to attend high-quality charter schools and meet challenging State academic standards; provide financial assistance for the planning, program design, and initial implementation of public charter schools; increase the number of high-quality charter schools available to students across the United States; evaluate the impact of charter schools on student achievement, families, and communities; share best practices between charter schools and other public schools; encourage States to provide facilities support to charter schools; and support efforts to strengthen the charter school authorizing process. Through the CMO grant program, the Department provides funds to CMOs on a competitive basis to enable them to replicate or expand one or more high-quality charter schools. More specifically, grant funds may be used to expand the enrollment of one or more existing high-quality charter schools, or to open one or more high-quality charter schools by replicating an existing high-quality charter school model.

Program Authority: Section 4305(b) of the ESEA.

Proposed Priorities:

This document contains seven proposed priorities.

Proposed Priority 1—Promoting Diversity.

Background: The CSP authorizing statute includes a priority under the CMO grant program for eligible entities that plan to operate or manage high-quality charter schools with racially and socioeconomically diverse student bodies. The proposed priority is based on the statutory priority, but would specify that the schools must have an intentional focus on racial and socioeconomic diversity. Accordingly, the proposed priority would help ensure that the Department targets for funding those CMOs taking active steps to promote racial and economic diversity in their schools, which we believe is consistent with the intent of the statutory priority.

A similar priority was included as a competitive preference priority in the FY 2017 notice inviting applications for this program (82 FR 4322) (FY 2017 NIA).

Proposed Priority: Under this priority, applicants must propose to replicate or expand high-quality charter schools that have an intentional focus on recruiting students from racially and socioeconomically diverse backgrounds and maintaining racially and socioeconomically diverse student bodies.

Proposed Priority 2—School Improvement through Restart Efforts.

Background: The CSP authorizing statute includes a priority under the CMO grant program for eligible entities that demonstrate success in working with schools identified by the State for comprehensive support and improvement under section 1111(c)(4)(D)(i) of the ESEA. States must identify schools for comprehensive support and improvement at the beginning of the 2018-19 school year. This proposed priority incorporates the statutory priority but, in order to meet the priority, the applicant also would be required to use CMO grant funds to support school improvement efforts by restarting an Academically Poor-performing Public School. We believe that the restart model (i.e., reopening a low-performing traditional public school under the management of a charter school developer or CMO, or reopening a low-performing public charter school under the management of a different charter school developer or CMO) holds promise as a school improvement strategy, but data suggest that it has been under-utilized thus far.² Accordingly, the proposed priority is intended to help increase the frequency of implementation of the restart model. The proposed priority also would allow applicants to demonstrate past success through work with persistently-lowest achieving schools or priority schools (i.e., schools identified for interventions under the former School Improvement Grant program or in States that exercised “ESEA flexibility,” respectively, under the Elementary and Secondary Education Act of 1965, as amended by the No Child Left Behind Act of 2001).

² Hurlburt, S., Therriault, S.B., and Le Floch, K.C. (2012). School Improvement Grants: Analyses of State Applications and Eligible and Awarded Schools (NCEE 2012-4060). Washington, DC: National Center for Education Evaluation and Regional Assistance, Institute of Education Sciences, U.S. Department of Education.

In future CMO competitions that include this priority, we would encourage applicants to review CSP technical assistance materials pertaining to how an applicant may design an admissions lottery for an Academically Poor-performing Public School that the applicant is proposing to restart. Under the most recent version of the CSP nonregulatory guidance, for example, a charter school receiving CSP funds could, if permissible under applicable State law, exempt from its lottery students who are enrolled in the Academically Poor-performing Public School at the time it is restarted.

A similar priority was included as a competitive preference priority in the FY 2017 NIA.

Proposed Priority: Under this priority, the Secretary considers the extent to which applications—

(a) Demonstrate past success working with one or more Academically Poor-performing Public Schools or schools that previously were designated as persistently lowest-achieving schools or priority schools under the former School Improvement Grant program or in States that exercised ESEA flexibility, respectively, under the ESEA, as amended by NCLB; and

(b) Propose to use grant funds under this program to restart one or more Academically Poor-performing Public Schools as charter schools during the project period by—

(i) Replicating one or more high-quality charter schools based on a successful charter school model for which the applicant has provided evidence of success; and

(ii) Targeting a demographically similar student population in the replicated charter schools as was served by the Academically Poor-performing Public Schools.

Proposed Priority 3—High School Students.

Background: Section 4305(b)(5)(C) of the ESEA authorizes the Secretary to give priority to applicants that propose to expand or replicate high-quality charter schools that serve high school students. In addition, section 4310(2)(M) of the ESEA authorizes charter schools that serve postsecondary students to receive CSP funds. The proposed priority incorporates the language of the statutory priority but, in order to meet the priority, applicants also would be required to replicate or expand charter high schools that offer programs and activities designed to prepare high school students for enrollment in a two- or four-year institution of higher education and, drawing from the authority provided in section 4310(2)(M), support such students after high school graduation in persisting in college and attaining degrees. The Department believes the proposed priority would complement broader efforts to promote a culture of lifelong learning and increase postsecondary participation, attendance, persistence, and degree attainment among our Nation's high school graduates.

Proposed Priority: Under this priority, applicants must propose to—

(i) Expand or replicate high-quality charter schools to serve high school students;

(ii) Prepare students in those schools for enrollment in a two- or four-year institution of higher education through programs and activities such as, but not limited to, accelerated learning programs (including Advanced Placement and International Baccalaureate courses and programs, dual or concurrent enrollment programs, and early college high schools), college counseling, career counseling, internships, work-based learning programs (such as apprenticeships), assisting students in the college admissions and financial aid application processes, and preparing students to take standardized college admissions tests;

(iii) Provide support for students who graduate from those schools and enroll in a two- or four-year institution of higher education in persisting in, and attaining a degree from, such institutions, through programs and activities such as, but not limited to, mentorships, ongoing assistance with the financial aid application process, and establishing or strengthening peer support systems for such students attending the same institution; and

(iv) Propose one or more project-specific performance measures, including aligned leading indicators or other interim milestones, that will provide valid and reliable information about the applicant's progress in preparing students for enrolling in an institution of higher education and in supporting those students in persisting in and attaining a degree from such institutions. An applicant addressing this priority and receiving a grant under this program must provide data that are responsive to the measure(s), including performance targets, in its annual performance reports to the Department.

Proposed Priority 4—Low-Income Demographic.

Background: The proposed priority is for applicants with experience serving concentrations of students who are Individuals from Low-income Families and is intended to support efforts to increase the number of high-quality educational options available to such students, particularly in the Nation's high-poverty areas. We propose three subparts to this proposed priority, each of which would require that the schools the applicant operates or manages serve a specific minimum percentage of students who are Individuals from Low-income Families over the course of the CMO grant project period. The Secretary would have flexibility to choose one or more of the subparts of this priority in a given competition. We believe such flexibility is necessary to enable the Secretary to accommodate the range of eligible applicants and schools that may need support in a given year. The Department has included a similar priority in prior CMO competitions.

The Department expects that the charter schools proposed to be replicated or expanded by an applicant meeting this proposed priority would serve, for the duration of the grant period, a percentage of students who are Individuals from Low-income Families that is comparable to the minimum percentage of such students established under the priority for a given year.

Proposed Priority: Under this priority, applicants must demonstrate one of the following—

(i) That at least 40 percent of the students across all of the charter schools the applicant operates or manages are Individuals from Low-income Families;

(ii) That at least 50 percent of the students across all of the charter schools the applicant operates or manages are Individuals from Low-income Families; or

(iii) That at least 60 percent of the students across all of the charter schools the applicant operates or manages are Individuals from Low-income Families.

Proposed Priority 5—Number of Charter Schools Operated or Managed by the Eligible Applicant.

Background: We propose this priority to enable the Department to distinguish applicants based on the number of charter schools they currently operate or manage. We propose three subparts for this priority, each of which would require that the applicant currently operate or manage a different number of schools. The Secretary would have the flexibility to choose one or more of the subparts of this priority in a given competition. This priority would give the Department flexibility to respond to changing funding needs in the charter school sector by, for example, targeting support toward smaller CMOs (i.e., CMOs that currently operate or manage no more than five charter schools) as they begin to expand, or toward larger, more established CMOs that seek to serve new communities. In addition, given that the CSP statute, as reauthorized under the ESEA, now also allows State entities to award subgrants for the replication and expansion of high-quality charter schools, this priority would enable the Department to focus its grant-making, as appropriate, based on new and evolving support for the replication and expansion of charter schools at the State level.

Proposed Priority: Under this priority, applicants must demonstrate one of the following—

(i) That they currently operate or manage two to five charter schools;

(ii) That they currently operate or manage six to 20 charter schools; or

(iii) That they currently operate or manage 21 or more charter schools.

Proposed Priority 6—Geographic Location of Charter Schools Proposed to Be Replicated or Expanded.

Background: We propose this priority to enable the Department to provide incentives for applicants to propose to replicate or expand high-quality charter schools in Rural Communities. There is too often a relative dearth of high-quality educational options for students in Rural Communities, and our experience implementing this and other discretionary grant programs has taught us that these communities often face unique obstacles to educational success. This proposed priority would allow the Department flexibility to provide an incentive for applicants proposing to replicate or expand high-quality charter schools in Rural Communities, including by evaluating such applications separately from applications proposing to replicate or expand high-quality charter schools in non-rural communities, thereby allowing for an “apples-to-apples” comparison. Accordingly, this proposed priority would help ensure that students in Rural Communities have access to a range of educational options similar to that available to their peers in suburban and urban areas, and from which parents can select an option that best meets their child's needs.

Proposed Priority: Under this priority, applicants must propose to replicate or expand one or more high-quality charter schools in a:

(i) Rural Community; or

(ii) Community that is not a Rural Community.

Proposed Priority 7—Replicating or Expanding High-quality Charter Schools to Serve Students who are Indians.

Background: We propose this priority to enable the Department to provide an incentive for applicants that propose to replicate or expand high-quality charter schools by conducting targeted outreach and recruitment in order to serve a High Proportion of students who are Indians. We propose to define “High Proportion” in a way that would enable the Department to determine whether a replicated or expanded charter school serves a High Proportion of students who are Indians on a case-by-case basis, taking into consideration the unique factual circumstances of that school.

In order to meet the priority, an applicant would be required to provide a letter of support from one or more Indian Tribes or Indian Organizations located within the area to be served by the replicated or expanded charter school, and to demonstrate a commitment to meaningfully collaborate with the Indian Tribes or Indian Organizations in a timely, active, and ongoing manner. In addition, the applicant would have to demonstrate that the replicated or expanded charter school's mission and educational program will address the unique educational needs of students who are Indians, and that such school's governing board will have a substantial percentage of members who are members of Indian Tribes or Indian Organizations located within the area to be served by the charter school.

Priority: Under this priority, applicants must—

(i) Propose to replicate or expand one or more high-quality charter schools that—

(I) Utilize targeted outreach and recruitment in order to serve a High Proportion of students who are Indians;

(II) Have a mission and academic program that will address the unique educational needs of students who are Indians, including through the use of instructional programs and teaching methods that reflect and preserve Indian language, culture, and history; and

(III) Have a governing board with a substantial percentage of members who are members of Indian Tribes or Indian Organizations located within the area to be served by the replicated or expanded charter school;

(ii) Submit a letter of support, from at least one Indian Tribe or Indian Organization located within the area to be served by the replicated or expanded charter school; and

(iii) Demonstrate a commitment to meaningfully collaborate with the Indian Tribe(s) or Indian Organization(s) from which the applicant has received a letter of support in a timely, active, and ongoing manner with respect to the development and implementation of the educational program at the charter school.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements:

Background: The ESEA includes several requirements for applications submitted under this program. We have listed the statutory application requirements in the Appendix for reference. In addition to the specific statutory requirements, section 4305(c) of the ESEA requires grants awarded to CMOs to have the “same terms and conditions as grants awarded to State entities under section 4303.” We propose some requirements for this program that apply to State entity grants under section 4303(f). We have included in the Appendix to this document other requirements in section 4303(f) that we intend to apply to CMO grants but that do not require rulemaking. In applying the latter requirements to CMO grants, references to “State entity” and “State entity program” must be read as references to “charter management organization” and “grant award,” respectively.

In general, the Department believes, based on past experience administering this program, that these proposed requirements are necessary for the proper consideration of applications for CMO grants and would increase the likelihood of success of applicants' proposed projects, thereby contributing to the efficient use of taxpayer dollars in expanding the high-quality educational options available to our Nation's students. In accordance with section 4305(c), these proposed requirements would not preclude the Department from applying other terms and conditions applicable to State entity grants to CMO grants in FY 2019 or future years.

Proposed Requirements: The Acting Assistant Deputy Secretary for Innovation and Improvement proposes the following requirements for this program. We would apply one or more of these requirements in any year in which this program is in effect.

Applicants for funds under this program must meet one or more of the following requirements—

(a) Demonstrate that the applicant currently operates or manages more than one charter school. For purposes of this program, multiple charter schools are considered to be separate schools if each school—

(i) Meets each element of the definition of “charter school” under section 4310(2) of the ESEA; and

(ii) Is treated as a separate school by its authorized public chartering agency and the State in which the charter school is located, including for purposes of accountability and reporting under title I, part A of the ESEA.

(b) Provide information regarding any compliance issues and how they were resolved, for any charter schools operated or managed by the applicant that have—

(i) Closed;

(ii) Had their charter(s) revoked due to problems with statutory or regulatory compliance, including compliance with sections 4310(2)(G) and (J) of the ESEA; or

(iii) Had their affiliation with the applicant revoked or terminated, including through voluntary disaffiliation.

(c) Provide a complete logic model (as defined in 34 CFR 77.1) for the grant project. The logic model must include the applicant's objectives for replicating or expanding one or more high-quality charter schools with funding under this program, including the number of high-quality charter schools the applicant proposes to replicate or expand.

(d) If the applicant currently operates, or is proposing to replicate or expand, a single-sex charter school or coeducational charter school that provides a single-sex class or extracurricular activity (collectively referred to as a “single-sex educational program”), demonstrate that the existing or proposed single-sex educational program is in compliance with Title IX of the Education Amendments of 1972 (20 U.S.C. 1681, et seq.) (Title IX) and its implementing regulations, including 34 CFR 106.34.

(e) Describe how the applicant currently operates or manages the high-quality charter schools for which it has presented evidence of success and how the proposed replicated or expanded charter schools will be operated or managed, including the legal relationship between the applicant and its schools. If a legal entity other than the applicant has entered or will enter into a performance contract with an authorized public chartering agency to operate one or more of the applicant's schools, the applicant must also describe its relationship with that entity.

(f) Describe how the applicant will solicit and consider input from parents and other members of the community on the implementation and operation of each replicated or expanded charter school, including in the area of school governance.

(g) Describe the lottery and enrollment procedures that will be used for each replicated or expanded charter school if more students apply for admission than can be accommodated, including how any proposed weighted lottery complies with section 4303(c)(3)(A) of the ESEA.

(h) Describe how the applicant will ensure that all eligible students with disabilities receive a free appropriate public education in accordance with part B of the Individuals with Disabilities Education Act.

(i) Describe how the proposed project will assist Educationally Disadvantaged Students in mastering challenging State academic standards.

(j) Provide a budget narrative, aligned with the activities, target grant project outputs, and outcomes described in the logic model, that outlines how Federal grant funds will be expended to carry out planned activities.

(k) Provide the applicant's most recent independently audited financial statements prepared in accordance with generally accepted accounting principles.

(l) Describe the applicant's policies and procedures to assist students enrolled in a charter school that closes or loses its charter to attend other high-quality schools.

(m) Provide—

(A) A request and justification for waivers of any Federal statutory or regulatory provisions that the eligible entity believes are necessary for the successful operation of the charter schools to be replicated or expanded; and

(B) A description of any State or local rules, generally applicable to public schools, that will be waived, or otherwise not apply to such schools.

Proposed Definitions:

The Acting Assistant Deputy Secretary for Innovation and Improvement proposes the following definitions for this program. We may apply one or more of these definitions in any year in which this program is in effect.

Background: In order to ensure common understanding of the proposed priorities, requirements, and selection criteria, we propose nine definitions of terms that are critical to the policy and statutory purposes of the CMO grant program. We propose these definitions in order to clarify expectations for eligible entities applying for CMO grants and to ensure that the review process for applications for CMO grants remains as transparent as possible. The proposed definition for Educationally Disadvantaged Students is based on section 1115(c)(2) of the ESEA, the proposed definition for Indian is taken from section 6151(3) of the ESEA, the proposed definition for Indian Organization is from 34 CFR 263.3, and the proposed definition for Indian Tribe is from section 6132(b)(2) of the ESEA.

Academically poor-performing public school means:

(a) A school identified by the State for comprehensive support and improvement under section 1111(c)(4)(D)(i) of the ESEA; or

(b) A public school otherwise identified by the State, or in the case of a charter school, its authorized public chartering agency, as similarly academically poor-performing.

Educationally disadvantaged student means a student in one or more of the categories described in section 1115(c)(2) of the ESEA, which include children who are economically disadvantaged, students with disabilities, migrant students, English learners, neglected or delinquent students, homeless students, and students who are in foster care.

High proportion, when used to refer to students who are Indians, is a fact-specific, case-by-case determination based upon the unique circumstances of a particular charter school or proposed charter school. The Secretary considers “high proportion” to include a majority of students who are Indians. In addition, the Secretary may determine that less than a majority of students who are Indians constitutes a “high proportion” based on the unique circumstances of a particular charter school or proposed charter school, as described in the application for funds.

Indian means an individual who is—

(A) A member of an Indian tribe or band, as membership is defined by the tribe or band, including—

(i) Any tribe or band terminated since 1940; and

(ii) Any tribe or band recognized by the State in which the tribe or band resides;

(B) A descendant, in the first or second degree, of an individual described in subparagraph (A);

(C) Considered by the Secretary of the Interior to be an Indian for any purpose;

(D) An Eskimo, Aleut, or other Alaska Native; or

(E) A member of an organized Indian group that received a grant under the Indian Education Act of 1988 as in effect the day preceding the date of enactment of the Improving America's Schools Act of 1994.

Indian organization means an organization that—

(1) Is legally established—

(i) By tribal or inter-tribal charter or in accordance with State or tribal law; and

(ii) With appropriate constitution, by-laws, or articles of incorporation;

(2) Includes in its purposes the promotion of the education of Indians;

(3) Is controlled by a governing board, the majority of which is Indian;

(4) If located on an Indian reservation, operates with the sanction or by charter of the governing body of that reservation;

(5) Is neither an organization or subdivision of, nor under the direct control of, any institution of higher education; and

(6) Is not an agency of State or local government.

Indian tribe means a federally-recognized or a State-recognized tribe.

Individual from a low-income family means an individual who is determined by a State educational agency or local educational agency to be a child from a low-income family on the basis of (a) data used by the Secretary to determine allocations under section 1124 of the ESEA, (b) data on children eligible for free or reduced-price lunches under the Richard B. Russell National School Lunch Act, (c) data on children in families receiving assistance under part A of title IV of the Social Security Act, (d) data on children eligible to receive medical assistance under the Medicaid program under Title XIX of the Social Security Act, or (e) an alternate method that combines or extrapolates from the data in items (a) through (d) of this definition.

Rural community means a community that is served by a local educational agency that is eligible to apply for funds under the Small Rural School Achievement (SRSA) program or the Rural and Low-Income School (RLIS) program authorized under title V, part B of the ESEA. Applicants may determine whether a particular local educational agency is eligible for these programs by referring to information on the following Department websites. For the SRSA program: www2.ed.gov/programs/reapsrsa/eligible16/index.html. For the RLIS program: www2.ed.gov/programs/reaprlisp/eligibility.html.

Proposed Selection Criteria:

Background: The ESEA includes three selection criteria for the CMO grant program, which are included in the Appendix for reference. We propose a criterion that would expand upon those included in the authorizing statute, as well as three other criteria. Based on past experience implementing the CMO grant program, we believe that these additional criteria will be valuable tools for peer reviewers to evaluate the quality of CMO applications in future years.

Specifically, proposed selection criterion (a) “Quality of the Eligible Applicant” derives from the ESEA selection criteria for this program, under which the Department considers the degree to which an applicant has demonstrated success in increasing student academic achievement and whether charter schools operated or managed by the applicant have been closed or have encountered statutory or regulatory compliance issues. The proposed criterion would expand on the statutory criteria by examining the extent to which academic achievement results for Educationally Disadvantaged Students attending an applicant's schools have exceeded State averages for such students in the State. Further, we propose to incorporate into this criterion language from the ESEA definition of “high-quality charter school” that would enable reviewers also to consider any significant issues that an applicant's charter schools have encountered in the areas of financial or operational management and student safety. The Department believes that these proposed selection factors would align with the intent of the authorizing statute and would bolster our ability to select high-quality CMO applicants.

Proposed selection criterion (b) “Contribution in assisting Educationally Disadvantaged Students” would focus on the contribution the proposed project would make in expanding educational opportunities for Educationally Disadvantaged Students and enabling those students to meet challenging State academic standards. This proposed criterion would allow the Department to assess the extent to which each proposed project aligns with a major statutory purpose of the CSP: To expand opportunities for Educationally Disadvantaged Students. This criterion would encourage applicants to discuss (1) their current capacity to serve Educationally Disadvantaged Students, including students with disabilities and English learners, and to compare that capacity to that of surrounding public schools, and (2) their plans for replicating or expanding high-quality charter schools that will recruit and enroll Educationally Disadvantaged Students.

Proposed selection criterion (c) “Quality of the evaluation plan for the proposed project” would examine how applicants would evaluate their proposed projects. It is crucial that the Department invest its limited discretionary funding in projects that are based on a reasoned theory and that are likely to yield information that can be used to continue to expand high-quality educational options for students. This criterion would allow the Department to assess the extent to which each CMO applicant: Has based its proposed project on a logic model (as defined in 34 CFR 77.1) that links the planned inputs and outputs to clearly defined intended outcomes of the project; will use objective performance measures to ensure that the project remains on track to meet stated objectives; and will be able to produce qualitative and quantitative data by the end of the grant period.

Finally, proposed selection criterion (d) “Quality of the management plan and personnel” would allow applicants to highlight the management plan for their proposed project, the qualifications of key project personnel, and the potential for sustaining the charter schools included in the proposed project after the grant has expired. While similar selection factors exist in the general selection criteria in 34 CFR 75.210, our intent for this proposed selection criterion is to focus on the extent to which the applicant could demonstrate its specific experience with, and proposed management plan for, replicating or expanding high-quality charter schools. We believe, based on past experience implementing this program, that the proposed criterion is appropriate to ascertain the likelihood of an applicant's success.

Proposed Selection Criteria: The Acting Assistant Deputy Secretary for Innovation and Improvement proposes the following selection criteria for evaluating an application under this program. We may apply one or more of these criteria in any year in which this program is in effect. In the NIA, we will announce the maximum possible points assigned to each criterion.

The Secretary will select eligible entities to receive grants under this program on the basis of the quality of such applications, after taking into consideration one or more of the following selection criteria:

(a) Quality of the eligible applicant. In determining the quality of the eligible applicant, the Secretary considers one or more of the following factors:

(i) The extent to which the academic achievement results (including annual student performance on statewide assessments and annual student attendance and retention rates, and where applicable and available, student academic growth, high school graduation rates, college attendance rates, and college persistence rates) for Educationally Disadvantaged Students served by the charter schools operated or managed by the applicant have exceeded the average academic achievement results for such students in the State.

(ii) The extent to which one or more charter schools operated or managed by the applicant have closed; have had a charter revoked due to noncompliance with statutory or regulatory requirements; or have had their affiliation with the applicant revoked or terminated, including through voluntary disaffiliation.

(iii) The extent to which one or more charter schools operated or managed by the applicant have had any significant issues in the area of financial or operational management or student safety or have otherwise experienced significant problems with statutory or regulatory compliance that could lead to revocation of the school's charter.

(b) Contribution in assisting Educationally Disadvantaged Students.

The significance of the contribution the proposed project will make in expanding educational opportunities for Educationally Disadvantaged Students and enabling those students to meet challenging State academic standards. In determining the significance of the contribution the proposed project will make, the Secretary considers one or more of the following factors:

(i) The extent to which charter schools currently operated or managed by the applicant serve Educationally Disadvantaged Students, including students with disabilities and English learners, at rates comparable to surrounding public schools or, in the case of virtual charter schools, at rates comparable to public schools in the State.

(ii) The quality of the plan to ensure that the charter schools the applicant proposes to replicate or expand will recruit and enroll Educationally Disadvantaged Students.

(c) Quality of the evaluation plan for the proposed project.

In determining the quality of the evaluation plan for the proposed project, the Secretary considers the extent to which the methods of evaluation include the use of objective performance measures that are clearly related to the intended outcomes of the proposed project, as articulated in the applicant's logic model (as defined in 34 CFR 77.1), and that will produce quantitative and qualitative data by the end of the grant period.

(d) Quality of the management plan.

In determining the quality of the applicant's management plan, the Secretary considers the ability of the applicant to sustain the operation of the replicated or expanded charter schools after the grant has ended, as demonstrated by the multi-year financial and operating model required under section 4305(b)(3)(B)(iii) of the ESEA.

Final Priorities, Requirements, Definitions, and Selection Criteria:

We will announce the final priorities, requirements, definitions, and selection criteria in a document in the Federal Register. We will determine the final priorities, requirements, definitions, and selection criteria after considering public comments and other information available to the Department. This document does not preclude us from proposing additional priorities, requirements, definitions, or selection criteria, subject to meeting applicable rulemaking requirements.

Note: This document does not solicit applications. In any year in which we choose to use one or more of these priorities, requirements, definitions, and selection criteria, we invite applications through a notice in the Federal Register.

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, definitions, and selection criteria only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Discussion of Potential Costs and Benefits

The Department believes that this regulatory action would not impose significant costs on eligible entities, whose participation in this program is voluntary. While this action would impose some requirements on participating CMOs that are cost-bearing, the Department expects that applicants for this program would include in their proposed budgets a request for funds to support compliance with such cost-bearing requirements. Therefore, costs associated with meeting these requirements are, in the Department's estimation, minimal.

This regulatory action would strengthen accountability for the use of Federal funds by helping to ensure that the Department selects for CSP grants the CMOs that are most capable of expanding the number of high-quality charter schools available to our Nation's students, consistent with a major purpose of the CSP as described in section 4301(3) of the ESEA. The Department believes that these benefits to the Federal government and to SEAs outweigh the costs associated with this action.

Regulatory Alternatives Considered

The Department believes that the proposed priorities, requirements, definitions, and selection criteria are needed to administer the program effectively. As an alternative to promulgating the proposed selection criteria, the Department could choose from among the selection criteria authorized for CSP grants to CMOs in section 4305(b) of the ESEA (20 U.S.C. 7221c) and the general selection criteria in 34 CFR 75.210. We do not believe that these criteria provide a sufficient basis on which to evaluate the quality of applications. In particular, the criteria would not sufficiently enable the Department to assess an applicant's past performance with respect to the operation of high-quality charter schools or with respect to compliance issues that the applicant has encountered.

We note that several of the proposed priorities, requirements, definitions, and selection criteria are based on priorities, requirements, definitions, selection criteria, and other provisions in the authorizing statute for this program.

Accounting Statement

As required by OMB Circular A-4 (available at www.whitehouse.gov/sites/default/files/omb/assets/omb/circulars/a004/a-4.pdf), in the following table we have prepared an accounting statement showing the classification of the expenditures associated with the provisions of this regulatory action. This table provides our best estimate of the changes in annual monetized transfers as a result of this regulatory action. Expenditures are classified as transfers from the Federal Government to SEAs.

Accounting Statement Classification of Estimated Expenditures
[In millions]
Category | Transfers
Annualized Monetized Transfers | $90.
From Whom To Whom? | From the Federal Government to CMOs.

Under Executive Order 13771, for each new regulation that the Department proposes for notice and comment or otherwise promulgates that is a significant regulatory action under Executive Order 12866 and that imposes total costs greater than zero, it must identify two deregulatory actions. For Fiscal Year 2018, any new incremental costs associated with a new regulation must be fully offset by the elimination of existing costs through deregulatory actions. However, Executive Order 13771 does not apply to “transfer rules” that cause only income transfers between taxpayers and program beneficiaries, such as those regarding discretionary grant programs. These proposed priorities, requirements, definitions, and selection criteria would be utilized in connection with a discretionary grant program and, therefore, Executive Order 13771 is not applicable.

Paperwork Reduction Act of 1995

The proposed priorities, requirements, and selection criteria contain information collection requirements that are approved by OMB under OMB control number 1894-0006; the proposed priorities, requirements, and selection criteria do not affect the currently approved data collection.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 23, 2018.
James C. Blew,
Acting Assistant Deputy Secretary for Innovation and Improvement.

Appendix

This Appendix includes priorities, requirements, definitions, and selection criteria from sections 4303(f), 4305(b), 4305(c), and 8101 of the ESEA and 34 CFR 77.1 for reference.

Priorities: The following priorities are from section 4305(b)(5) of the ESEA:

(5) Priority.—In awarding grants under this section, the Secretary shall give priority to eligible entities that—

(A) Plan to operate or manage high-quality charter schools with racially and socioeconomically diverse student bodies;

(B) Demonstrate success in working with schools identified by the State for comprehensive support and improvement under section 1111(c)(4)(D)(i);

(C) Propose to use funds—

(i) To expand high-quality charter schools to serve high school students; or

(ii) To replicate high-quality charter schools to serve high school students; or

(D) Propose to operate or manage high-quality charter schools that focus on dropout recovery and academic re-entry.

Requirements and Assurances: The following requirements and assurances are from sections 4303(f) and 4305(b)(3), respectively, of the ESEA. In accordance with section 4305(c), we include in this Appendix key statutory provisions in section 4303(f) that apply to State entity grants that we intend to apply to CMO grants. In applying the requirements in section 4303(f) to CMO grants, references to “State entity” and “State entity program” must be read as references to “charter management organization” and “grant award,” respectively.

4303(f) Applications.—A State entity desiring to receive a grant under this section shall submit an application to the Secretary at such time and in such manner as the Secretary may require. The application shall include the following:

(1) Description of program.—A description of the State entity's objectives in running a quality charter school program under this section and how the program will be carried out, including—

(A) A description of how the State entity will—

(x) Ensure that charter schools receiving funds under the State entity's program meet the educational needs of their students, including children with disabilities and English learners; and

(xiii)(E) A description of how the State entity will ensure that each charter school receiving funds under the State entity's program has considered and planned for the transportation needs of the school's students.

(2) Assurances.—Assurances that—

(B) The State entity will support charter schools in meeting the educational needs of their students, as described in paragraph (1)(A)(x); and

(G) The State entity will ensure that each charter school receiving funds under the State entity's program makes publicly available, consistent with the dissemination requirements of the annual State report card under section 1111(h), including on the website of the school, information to help parents make informed decisions about the education options available to their children, including—

(i) Information on the educational program;

(ii) Student support services;

(iii) Parent contract requirements (as applicable), including any financial obligations or fees;

(iv) Enrollment criteria (as applicable); and

(v) Annual performance and enrollment data for each of the subgroups of students, as defined in section 1111(c)(2), except that such disaggregation of performance and enrollment data shall not be required in a case in which the number of students in a group is insufficient to yield statically reliable information or the results would reveal personally identifiable information about an individual student.

4305(b)(3) Application Requirements.—An eligible entity desiring to receive a grant under this subsection shall submit an application to the Secretary at such time and in such manner as the Secretary may require. The application shall include the following:

(A) Existing Charter School Data.—For each charter school currently operated or managed by the eligible entity—

(i) Student assessment results for all students and for each subgroup of students described in section 1111(c)(2);

(ii) Attendance and student retention rates for the most recently completed school year and, if applicable, the most recent available four-year adjusted cohort graduation rates and extended-year adjusted cohort graduation rates; and

(iii) Information on any significant compliance and management issues encountered within the last three school years by any school operated or managed by the eligible entity, including in the areas of student safety and finance.

(B) Descriptions.—A description of—

(i) The eligible entity's objectives for implementing a high-quality charter school program with funding under this subsection, including a description of the proposed number of high-quality charter schools the eligible entity proposes to open as a result of the replication of a high-quality charter school or to expand with funding under this subsection;

(ii) The educational program that the eligible entity will implement in such charter schools, including—

(I) Information on how the program will enable all students to meet the challenging State academic standards;

(II) The grade levels or ages of students who will be served; and

(III) The instructional practices that will be used;

(iii) How the operation of such charter schools will be sustained after the grant under this subsection has ended, which shall include a multi-year financial and operating model for the eligible entity;

(iv) How the eligible entity will ensure that such charter schools will recruit and enroll students, including children with disabilities, English learners, and other educationally disadvantaged students; and

(v) Any request and justification for any waivers of Federal statutory or regulatory requirements that the eligible entity believes are necessary for the successful operation of such charter schools.

(C) Assurance.—An assurance that the eligible entity has sufficient procedures in effect to ensure timely closure of low-performing or financially mismanaged charter schools and clear plans and procedures in effect for the students in such schools to attend other high-quality schools.

Definitions: The following definitions are from the ESEA or Department regulations. The specific source of each definition is noted in parentheses following each definition.

Authorized public chartering agency means a State educational agency, local educational agency, or other public entity that has the authority pursuant to State law and approved by the Secretary to authorize or approve a charter school. (Section 4310(1) of the ESEA)

Charter school means a public school that—

(A) In accordance with a specific State statute authorizing the granting of charters to schools, is exempt from significant State or local rules that inhibit the flexible operation and management of public schools, but not from any rules relating to the other requirements of this paragraph;

(B) Is created by a developer as a public school, or is adapted by a developer from an existing public school, and is operated under public supervision and direction;

(C) Operates in pursuit of a specific set of educational objectives determined by the school's developer and agreed to by the authorized public chartering agency;

(D) Provides a program of elementary or secondary education, or both;

(E) Is nonsectarian in its programs, admissions policies, employment practices, and all other operations, and is not affiliated with a sectarian school or religious institution;

(F) Does not charge tuition;

(G) Complies with the Age Discrimination Act of 1975, title VI of the Civil Rights Act of 1964, title IX of the Education Amendments of 1972, section 504 of the Rehabilitation Act of 1973, the Americans with Disabilities Act of 1990 (42 U.S.C. 12101 et seq.), section 444 of the General Education Provisions Act (20 U.S.C. 1232g) (commonly referred to as the “Family Educational Rights and Privacy Act of 1974”), and part B of the Individuals with Disabilities Education Act;

(H) Is a school to which parents choose to send their children, and that—

(i) Admits students on the basis of a lottery, consistent with section 4303(c)(3)(A), if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in clause (i);

(I) Agrees to comply with the same Federal and State audit requirements as do other elementary schools and secondary schools in the State, unless such State audit requirements are waived by the State;

(J) Meets all applicable Federal, State, and local health and safety requirements;

(K) Operates in accordance with State law;

(L) Has a written performance contract with the authorized public chartering agency in the State that includes a description of how student performance will be measured in charter schools pursuant to State assessments that are required of other schools and pursuant to any other assessments mutually agreeable to the authorizing public chartering agency and the charter school; and

(M) May serve students in early childhood education programs or postsecondary students. (Section 4310(2) of the ESEA)

Charter management organization means a nonprofit organization that operates or manages a network of charter schools linked by centralized support, operations, and oversight. (Section 4310(3) of the ESEA)

Developer means an individual or group of individuals (including a public or private nonprofit organization), which may include teachers, administrators and other school staff, parents, or other members of the local community in which a charter school project will be carried out. (Section 4310(5) of the ESEA)

Dual or concurrent enrollment program means a program offered by a partnership between at least one institution of higher education and at least one local educational agency through which a secondary school student who has not graduated from high school with a regular high school diploma is able to enroll in one or more postsecondary courses and earn postsecondary credit that—

(A) Is transferable to the institutions of higher education in the partnership; and

(B) Applies toward completion of a degree or recognized educational credential as described in the Higher Education Act of 1965 (20 U.S.C. 1001 et seq.). (Section 8101(15) of the ESEA)

Early college high school means a partnership between at least one local educational agency and at least one institution of higher education that allows participants to simultaneously complete requirements toward earning a regular high school diploma and earn not less than 12 credits that are transferable to the institutions of higher education in the partnership as part of an organized course of study toward a postsecondary degree or credential at no cost to the participant or participant's family. (Section 8101(17) of the ESEA)

Expand, when used with respect to a high-quality charter school, means to significantly increase enrollment or add one or more grades to the high-quality charter school. (Section 4310(7) of the ESEA)

High-quality charter school means a charter school that—

(a) Shows evidence of strong academic results, which may include strong student academic growth, as determined by a State;

(b) Has no significant issues in the areas of student safety, financial and operational management, or statutory or regulatory compliance;

(c) Has demonstrated success in significantly increasing student academic achievement, including graduation rates where applicable, for all students served by the charter school; and

(d) Has demonstrated success in increasing student academic achievement, including graduation rates where applicable, for each of the subgroups of students, as defined in section 1111(c)(2), except that such demonstration is not required in a case in which the number of students in a group is insufficient to yield statistically reliable information or the results would reveal personally identifiable information about an individual student. (Section 4310(8) of the ESEA)

Logic model (also referred to as a theory of action) means a framework that identifies key project components of the proposed project (i.e., the active “ingredients” that are hypothesized to be critical to achieving the relevant outcomes) and describes the theoretical and operational relationships among the key project components and relevant outcomes. (34 CFR 77.1)

Replicate, when used with respect to a high-quality charter school, means to open a new charter school, or a new campus of a high-quality charter school, based on the educational model of an existing high-quality charter school, under an existing charter or an additional charter, if permitted or required by State law. (Section 4310(9) of the ESEA)

Selection Criteria: The following selection criteria are from section 4305(b)(4) of the ESEA.

(4) Selection Criteria.—The Secretary shall select eligible entities to receive grants under this subsection, on the basis of the quality of the applications submitted under paragraph (3), after taking into consideration such factors as—

(A) The degree to which the eligible entity has demonstrated success in increasing academic achievement for all students and for each of the subgroups of students described in section 1111(c)(2) attending the charter schools the eligible entity operates or manages;

(B) A determination that the eligible entity has not operated or managed a significant proportion of charter schools that—

(i) Have been closed;

(ii) Have had the school's charter revoked due to problems with statutory or regulatory compliance; or

(iii) Have had the school's affiliation with the eligible entity revoked or terminated, including through voluntary disaffiliation; and

(C) A determination that the eligible entity has not experienced significant problems with statutory or regulatory compliance that could lead to the revocation of a school's charter.

Terms and Conditions: The following terms and conditions are from section 4305(c) of the ESEA.

(c) Terms and Conditions.—Except as otherwise provided, grants awarded under paragraphs (1) and (2) of subsection (a) shall have the same terms and conditions as grants awarded to State entities under section 4303.

[FR Doc. 2018-15977 Filed 7-26-18; 8:45 am]

BILLING CODE 4000-01-P